DEPARTMENT OF TRANSPORTATION

Federal Aviation Administration

14 CFR Part 39

[Docket No. FAA-2006-24709; Directorate Identifier 2006-CE-28-AD; Amendment 39-14980; AD 2007-05-19]

RIN 2120-AA64

Airworthiness Directives; Glasflugel Models H 301 “Libelle,” H 301B “Libelle,” Standard “Libelle,” and Standard Libelle-201B Sailplanes

AGENCY: Federal Aviation Administration (FAA), DOT.

ACTION: Final rule.

SUMMARY: The FAA adopts a new airworthiness directive (AD) for all Glasflugel Models H 301 “Libelle,” H 301B “Libelle,” Standard “Libelle,” and Standard Libelle-201B sailplanes. This AD requires you to replace the rudder actuator arm (manufactured according to drawing No. 301-45-10) with an improved design rudder actuator arm (manufactured following drawing No. 301-45-13). This AD results from mandatory continuing airworthiness information (MCAI) issued by the airworthiness authority for Germany. We are issuing this AD to detect and correct damage to the rudder actuator arm, which could result in failure of the rudder actuator arm. This failure could result in reduced or loss of rudder control.

DATES: This AD becomes effective on April 12, 2007.

As of April 12, 2007, the Director of the Federal Register approved the incorporation by reference of certain publications listed in the regulation.

ADDRESSES: To get the service information identified in this AD, contact Glasflugel, Glasfaser-Flugzeug-Service GmbH, Hansjory Steifeneder, Hofener Weg, 72582 Grabenstetten, Federal Republic of Germany; telephone: 011 49 7382 1032.

To view the AD docket, go to the Docket Management Facility; U.S. Department of Transportation, 400 Seventh Street, SW., Nassif Building, Room PL-401, Washington, DC 20590-001 or on the Internet at http://dms.dot.gov. The docket number is FAA-2006-24709; Directorate Identifier 2006-CE-28-AD.

FOR FURTHER INFORMATION CONTACT: Gregory Davison, Glider Project Officer, ACE-112, Small Airplane Directorate, 901 Locust, Room 301, Kansas City, Missouri 64106; telephone: (816) 329-4130; facsimile: (816) 329-4090.

SUPPLEMENTARY INFORMATION:

Discussion

On August 4, 2006, we issued a proposal to amend part 39 of the Federal Aviation Regulations (14 CFR part 39) to include an AD that would apply to all Glasflugel Models H 301 “Libelle,” H 301B “Libelle,” Standard “Libelle,” and Standard Libelle-201B sailplanes. This proposal was published in the Federal Register as a notice of proposed rulemaking (NPRM) on August 11, 2006 (71 FR 46128). The NPRM proposed to require you to replace the rudder actuator arm (manufactured according to drawing No. 301-45-10) with an improved design rudder actuator arm (manufactured following drawing No. 301-45-13).

Comments

We provided the public the opportunity to participate in developing this AD. The following presents the comment received on the proposal and FAA's response to the comment:

Comment Issue: Service Documents and Parts Manufacturer Approval

Jack Buster of the Modification and Replacement Parts Association (MARPA) requests the following be incorporated into the regulatory action:

1. Service documents deemed essential to the accomplishment of this proposed action be incorporated by reference and published in the Docket Management System (DMS); and

2. The issue of parts manufacturer approval (PMA) be addressed in the proposed action and that all Directorates within the FAA treat the issue the same per Section 1, paragraph (b)(10) of Executive Order 12866.

We agree that the service documents are essential and should be incorporated by reference. However, we do not incorporate by reference any document in a proposed AD action; instead we incorporate by reference the document in the final rule. Since we are issuing the proposal as a final rule AD action, the service information referenced in this action will be incorporated by reference.

We are currently reviewing issues surrounding the posting of service bulletins in the Department of Transportation's DMS as part of the AD docket. Once we have thoroughly examined all aspects of this issue and have made a final determination, we will consider whether our current practice needs to be revised.

On the PMA issue, Mr. Buster's comments are timely in that the FAA is currently reviewing this issue as it applies to all products: Transport airplanes, commuter airplanes, general aviation airplanes, engines and propellers, rotorcraft, and appliances. The FAA acknowledges that there are different ways of addressing this issue to ensure that unsafe PMA parts are identified and addressed. Once we have thoroughly examined all aspects of this issue including input from industry and have made a final determination, we will consider developing a standardized approach and standardized language on how to address PMA parts in airworthiness directives.

We have determined that to delay this AD action would be inappropriate since an unsafe condition exists and that replacement of certain parts must be done to ensure continued safety. Therefore, we have made no change to the AD in this regard.

Conclusion

We have carefully reviewed the available data and determined that air safety and the public interest require adopting the AD as proposed except for minor editorial corrections. We have determined that these are minor corrections:

• Are consistent with the intent that was proposed in the NPRM for correcting the unsafe condition; and

• Do not add any additional burden upon the public than was already proposed in the NPRM.

Costs of Compliance

We estimate that this AD affects 160 airplanes in the U.S. registry.

We estimate the following costs to do the replacement of the rudder actuator arm (manufactured according to drawing No. 301-45-10):

Labor Cost | Parts cost | Total cost per airplane | Total cost on U.S. operators
3 work-hours × $80 per hour = $240 | $150 | $390 | $62,400

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24709; Directorate Identifier 2006-CE-28-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2007-05-19 Glasflugel: Amendment 39-14980; Docket No. FAA-2006-24709; Directorate Identifier 2006-CE-28-AD.

Effective Date

(a) This AD becomes effective on April 12, 2007.

Affected ADs

(b) None.

Applicability

(c) This AD affects Models H 301 “Libelle,” H 301B “Libelle,” Standard “Libelle,” and Standard Libelle-201B sailplanes, all serial numbers, that are certificated in any category.

Unsafe Condition

(d) This AD results from mandatory continuing airworthiness information (MCAI) issued by the airworthiness authority for Germany. We are issuing this AD to detect and correct damage to the rudder actuator arm, which could result in failure of the rudder actuator arm. This failure could result in reduced or loss of rudder control.

Compliance

(e) To address this problem, you must do the following:

Actions | Compliance | Procedures
(1) Replace the rudder actuator arm (manufactured according to drawing No. 301-45-10) with an improved design actuator arm (manufactured following drawing No. 301-45-13) | Within the next 30 days after April 12, 2007 (the effective date of this AD), unless already done | Follow Glasfaser-Flugzeug-Service GmbH Hansjörg Streifeneder Technical Note No. 201-35 and No. 301-39, dated March 1, 2005.
(2) Do not install any rudder actuator arm (manufactured according to drawing No. 301-45-10) | As of April 12, 2007 (the effective date of this AD) | Not applicable.

Alternative Methods of Compliance (AMOCs)

(f) The Manager, Standards Office, Small Airplane Directorate, FAA, ATTN: Gregory Davison, Glider Project Officer, ACE-112, Small Airplane Directorate, 901 Locust, Room 301, Kansas City, Missouri 64106; telephone: (816) 329-4130; facsimile: (816) 329-4090, has the authority to approve AMOCs for this AD, if requested using the procedures found in 14 CFR 39.19.

Related Information

(g) German AD Number D-2005-118, dated April 4, 2005, also addresses the subject of this AD.

Material Incorporated by Reference

(h) You must use Glasfaser-Flugzeug-Service GmbH Hansjörg Streifeneder Technical Note No. 201-35 and No. 301-39, dated March 1, 2005, to do the actions required by this AD, unless the AD specifies otherwise.

(1) The Director of the Federal Register approved the incorporation by reference of this service information under 5 U.S.C. 552(a) and 1 CFR part 51.

(2) For service information identified in this AD, contact Glasflugel, Glasfaser-Flugzeug-Service GmbH, Hansjory Steifeneder, Hofener Weg, 72582 Grabenstetten, Federal Republic of Germany; telephone: 011 49 7382 1032.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on March 1, 2007.
Kim Smith,
Manager, Small Airplane Directorate, Aircraft Certification Service.

[FR Doc. E7-3989 Filed 3-7-07; 8:45 am]

BILLING CODE 4910-13-P